DEPARTMENT OF THE INTERIOR

Bureau of Indian Affairs

[189A2100DD/AAKC001030/A0A501010.999900253G]

Indian Gaming; Tribal-State Class III Gaming Compact Taking Effect in the State of Connecticut

AGENCY: Bureau of Indian Affairs, Interior.

ACTION: Notice.

SUMMARY: The notice announces that the Tribal-State Class III Gaming Compact Amendment entered into between the Mohegan Tribe of Indians of Connecticut and the State of Connecticut is taking effect.

DATES: This compact takes effect on June 1, 2018.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior (Secretary) shall publish in the Federal Register notice of approved Tribal-State compacts for the purpose of engaging in Class III gaming activities on Indian lands. The Secretary took no action on the Amendment to the compact between the Mohegan Tribe of Indians of Connecticut and the State of Connecticut within 45 days of its submission. Therefore, the Amendment is considered to have been approved, but only to the extent the Amendment is consistent with IGRA. See 25 U.S.C. 2710(d)(8)(C).

Dated: May 25, 2018.
John Tahsuda,
Principal Deputy Assistant Secretary—Indian Affairs, Exercising the Authority of the Acting Assistant Secretary—Indian Affairs.

[FR Doc. 2018-11738 Filed 5-31-18; 8:45 am]

BILLING CODE 4337-15-P